DEPARTMENT OF AGRICULTURE

Submission for OMB Review; Comment Request

August 25, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by September 28, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Generic Information Collection and Clearance of Qualitative Feedback on Agency Service Delivery.

OMB Control Number: 0581-0269.

Summary of Collection: Executive Order 12862 directs Federal agencies to provide service to the public that matches or exceeds the best service available in the private sector. Improving Agricultural Marketing Service (AMS) programs requires ongoing assessment of service delivery, by which we mean systematic review of the operation of a program compared to a set of explicit or implicit standards, as a means of contributing to the continuous improvement of the program.

Need and Use of the Information: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between AMS and its customers and stakeholders. It will also allow feedback to contribute directly to the improvement of program management. Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

Description of Respondents: Farms; Business or other for-profit; Not-for-profit Institutions and State, Local or Tribal Government.

Number of Respondents: 100,000.

Frequency of Responses: Reporting: On occasion.

Total Burden Hours: 50,000.

Agricultural Marketing Service

Title: USDA Web Based Supply Chain Management System (WBSCM).

OMB Control Number: 0581-0273.

Summary of Collection: Section 32 of the Act of August 24, 1935, as amended (Section 32 Pub. L. 74-320; 7 U.S.C. 612(c); Sections 6(a) and (e), 13, and 17 of the National School Lunch Act, as amended, (42 U.S.C. 1751, 1761, and 1766) in addition to several other acts authorize the Agricultural Marketing Service (AMS) Procurement Branches to prepare and issue announcements for the purchase and sale of perishable agricultural commodities. AMS purchases agricultural commodities for the Section 32 and 6a & e National School Lunch Program/Child & Adult Care Food Program; Nutrition Service Incentive Program; Food Distribution Program on Indian Reservations; Commodity Supplemental Food Program; The Emergency Food Assistance Program and Disaster Feeding in addition to providing support for commodity markets with surplus inventory.

Need and Use of the Information: AMS issues solicitation for offers in order to solicit bids for commodities for delivery to domestic nutrition assistance programs. Vendors respond by making electronic offers using the secure Web Based Supply Chain Management System (WBSCM). Vendors must be registered, and have an ID and password, in order to submit bids electronically through WBSCM via the internet. The information will change in response to the needs of the domestic feeding programs and each solicitation. Information collected has been consolidated into three processes—a New Vendor Application, Bid Solicitation, and Contract Delivery, Invoice Submission and Inspection Results. The data collected from vendors assists AMS with making a determination whether a business is viable and capable of supplying product to the Federal government.

Description of Respondents: Business or other for profit; Farms.

Number of Respondents: 330.

Frequency of Responses: Reporting: On occasion; Weekly; Monthly; Quarterly.

Total Burden Hours: 48,376.

Ruth Brown,
Departmental Information Collection Clearance Officer.

[FR Doc. 2020-18942 Filed 8-27-20; 8:45 am]

BILLING CODE 3410-02-P